DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301-496-7057; fax: 301-402-0220. A signed Confidential Disclosure Agreement will be required to receive copies of the patent applications.

Fully Automated Bone Mineral Densitometry on Routine CT Scans

Description of Technology: The invention relates to an improved system for measuring bone mineral density (BMD). BMD measurement is an important tool for the diagnosis of osteopenia- and osteoporosis-related fractures, a significant national health problem primarily affecting the elderly and women after menopause. More specifically, the invention relates to an algorithm and software for fully automating BMD measurement, using routine CT data and eliminating the need for a reference phantom or a specialized imaging protocol. The current standard methods not only require reference phantom to be placed underneath the patient and a specialized imaging protocol, but they also require manually placed regions of interest (ROI) to identify the appropriate bone structures. The benefit of the automated method provided in the invention is that with this system BMD measurement will be available for every patient with chest/abdominal CT scan (millions are done every year) so that the potential low bone mineral density can be discovered.

Potential Commercial Applications:

• The technique can be integrated to a CT scanner to provide automated measurement of BMD for every CT scan.

• The technique can be integrated into PACS (Picture Archiving and Communication Systems) to report BMD at the time of image interpretation by the radiologist or clinician.

Competitive Advantages: The technique can be readily integrated to existing medical imaging systems such as CT scanners (to provide BMD measurement with every CT scan) or PACS (to report BMD at the time of image interpretation).

Development Stage:

• Prototype

• In vivo data available (human)

Inventors: Ronald M. Summers et al. (NIH-CC)

Publication: Summers RM, et al. Feasibility of simultaneous computed tomographic colonography and fully automated bone mineral densitometry in a single examination. J Comput Assist Tomogr. 2011 Mar-Apr;35(2):212-216. [PMID 21412092]

Intellectual Property: HHS Reference No. E-218-2011/0—Research Tool. Patent protection is not being pursued for this technology.

Licensing Contact: Michael Shmilovich, Esq.; 301-435-5019; shmilovm@mail.nih.gov.

Filovirus Vaccines and Diagnostics Based on Glycoprotein-Fc Fusion Proteins

Description of Technology: Ebola virus is a member of the Filoviridae, a family of viruses classified as “Category A” bioterrorism agents that cause severe hemorrhagic fever in humans and nonhuman primates with high morbidity and mortality rates up to 90%. This invention provides an efficacious Filovirus subunit vaccine based on a recombinant protein consisting of the extracellular domain of the Filovirus glycoprotein fused to an Fc Fragment of human immunoglobulin (FiloGP-Fc). Vaccination with FiloGP-Fc elicited humoral and cellular immunity against Filoviruses. The FiloGP-Fc vaccine induced antibodies that bound and neutralized replication-competent recombinant G-deleted Vesicular Stomatitis Virus containing the Filovirus GP (rVSV-FiloGP), and protected animals against Filovirus lethal challenge. Also described are cellular and humoral immunity tests as well as rVSV-FiloGP neutralization tests to evaluate anti-Filovirus immune responses in individuals.

Potential Commercial Applications:

• Vaccines for protection against infections by Ebola Virus and other Filoviruses.

• Diagnostic tests for cellular and humoral immunity based on FiloGP-Fc and rVSV-FiloGP to evaluate anti-Filovirus immune responses in vaccinated and infected animals and individuals.

Competitive Advantages: Filovirus vaccine candidates based on virus-like particles and virus vectors are currently under development by others. However, efficacious subunit vaccines have not yet been developed. The FiloGP-Fc fusion protein described in this invention has the advantage of resembling the native glycoprotein expressed at the surface of cells and viral particles. Thus, in addition to vaccines, the soluble FiloGP-Fc fusion proteins are ideal substrates to evaluate immune responses in animals and vaccinees.

Development Stage:

• Early-stage

• Pre-clinical

• In vitro data available

• In vivo data available (animal)

Inventors: Geraldo Kaplan (FDA), Krishnamurthy Konduru (FDA), et al.

Publication: Konduru K, et al. Ebola virus glycoprotein Fc fusion protein confers protection against lethal challenge in vaccinated mice. Vaccine 2011 Apr 5;29(16):2968-2977. [PMID 21329775]

Intellectual Property: HHS Reference No. E-222-2010/0—U.S. Patent Application No. 61/407,842 filed 28 October 2010.

Licensing Contact: Cristina Thalhammer-Reyero, PhD, MBA; 301-435-4507; thalhamc@mail.nih.gov.

Richard U. Rodriguez,
Director, Division of Technology Development and Transfer, Office of Technology Transfer, National Institutes of Health.

[FR Doc. 2011-22688 Filed 9-2-11; 8:45 am]

BILLING CODE 4140-01-P